DEPARTMENT OF COMMERCE

National Oceanic and Atmospheric Administration

RIN 0648-XY16

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Thursday, September 9, 2010 at 9 a.m.

ADDRESSES:

Meeting address: The meeting will be held at theHoliday Inn, 31 Hampshire Street, Mansfield, MA 02048; Telephone: (508)339-2200; Fax:(508)339-1040.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

(1) The Committee will continue development of Framework 45 to the Northeast Multispecies Fishery Management Plan and other actions. Possible management measures to be discussed include:

• Georges Bank yellowtail flounder rebuilding strategies

• ABCs for stocks including Gulf of Maine winter flounder and pollock

• Whaleback area spawning closure

• Permit bank implementation

• Accountability measures

• Handgear A and B exemption from dockside monitoring requirements

• Other issues

(2) The Committee may also review a preliminary draft of the white paper on accumulation limits and fleet diversity.

(3) Other business may also be discussed, including any recommendations from the Joint Groundfish/Scallop Committee.

The Committee's recommendations will be delivered to the full Council at its meeting in Newport, RI on September 28-30, 2010.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 10, 2010.
Tracey L. Thompson,
Acting Director, Office of Sustainable Fisheries, National Marine Fisheries Service.

[FR Doc. 2010-19993 Filed 8-12-10; 8:45 am]

BILLING CODE 3510-22-S